DEPARTMENT OF COMMERCE

Census Bureau

Proposed Information Collection; Comment Request; Service Annual Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before June 1, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Anne Russell, U.S. Census Bureau, 8K155, Washington, DC 20233-6500, (301) 763-5173 or via the Internet at anne.sigda.russell@census.gov.

SUPPLEMENTARY INFORMATION:

I. Abstract

This request is for extension of a currently approved information collection.

The Service Annual Survey (SAS), produces annual nationwide estimates of revenue and expenses for service industries. These service industries include all or portions of the following North American Industry Classification System (NAICS) sectors: Utilities (NAICS 22); Transportation and Warehousing (NAICS 48 and 49); Information (NAICS 51); Finance and Insurance (NAICS 52); Real Estate and Rental and Leasing (NAICS 53); Professional, Scientific and Technical Services (NAICS 54); Administrative and Support and Waste Management and Remediation Services (NAICS 56); Educational Services (NAICS 61); Health Care and Social Assistance (NAICS 62); Arts, Entertainment, and Recreation (NAICS 71); and Other Services (NAICS 81). Accommodation and Food Services (NAICS 72) will be collected as part of SAS beginning with the 2015 survey year, which will be mailed in January 2016. Previously accommodation and food services industry was collected as part of the Annual Retail Trade Survey (ARTS), OMB number 0607-0013.

For selected industries in Utilities; Transportation; Finance; Information; Professional, Scientific and Technical Services; Administrative Support and Waste Management and Remedation Services; and Educational Services, SAS produces estimates of revenue by detailed North American Product Classification System (NAPCS) products. Inventory estimates for selected industries in the Transportation and Information sectors are produced, as well as estimates of expanded revenues for selected industries across multiple sectors. For industries with a significant non-profit component, separate estimates are developed for taxable firms and organizations exempt from federal income tax.

These data are used to satisfy a variety of public and business needs such as economic market analysis, company performance, and forecasting future demands. Results will be available, at the United States summary level, for selected service industries approximately 11 months after the end of the reference year. The Bureau of Economic Analysis, the primary Federal user of these annual program statistics, uses the information in developing the national income and product accounts, compiling benchmark and annual input-output tables, and computing Gross Domestic Product by industry. The Bureau of Labor Statistics uses the data as inputs to its Producer Price Indexes and in developing productivity measurements. The Centers for Medicare and Medicaid Services use the data in the development of the National Health Expenditure Accounts. The Federal Communications Commission (FCC) uses the data as a means for assessing FCC policy. The Coalition of Service Industries uses the data for general research and planning. Trade and professional organizations use the data to analyze industry trends and benchmark their own statistical programs, develop forecasts, and evaluate regulatory requirements. The media uses the data for news reports and background information. Private businesses use the data to measure market share; analyze business potential; and plan investment decisions. The Census Bureau uses the data to provide new insight into changing structural and cost conditions that will impact the planning and design of future economic census questionnaires. Private industry also uses the data as a tool for marketing analysis.

Data are collected from all of the largest firms and from a sample of small- and medium-sized businesses selected using a stratified sampling procedure. The samples are reselected periodically, generally at 5-year intervals. The largest firms continue to be canvassed when the sample is re-drawn, while nearly all of the small- and medium-sized firms from the prior sample are replaced. The sample is updated quarterly to reflect employer business “births” and “deaths”; adding new employer businesses identified in the Business and Professional Classification Survey (OMB number 0607-0189) and deleting firms and Employer Identification Numbers when it is determined they are no longer active.

A new sample will be introduced with the 2016 SAS. In order to link estimates from the new and prior samples, we will be asking companies to provide data for 2016 and 2015. The 2017 SAS and subsequent years will request one year of data until a new sample is once again introduced.

II. Method of Collection

We collect this information online.

III. Data

OMB Control Number: 0607-0422.

Form Numbers: The SAS program consists of 162 unique forms, which are too extensive to list here.

Type of Review: Regular (extension of a currently approved information collection).

Affected Public: Businesses or other for-profit organizations, not-for-profit institutions, Government hospitals and Federal Government.

Estimated Number of Respondents: 83,528.

Estimated Time Per Response: 3 to 9 hours depending on form and year.

Estimated Total Annual Burden Hours: 330,810 (3-year average).

Estimated Total Annual Cost: $0 in recordkeeping/reporting costs.

Respondent's Obligation: Mandatory.

Legal Authority: Title 13 U.S.C., sections 131, 182, 224 and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 27, 2015.
Sarah Brabson,
NOAA PRA Clearance Officer, submitting for Census.

[FR Doc. 2015-07434 Filed 3-31-15; 8:45 am]

BILLING CODE 3510-07-P